DEPARTMENT OF COMMERCE

Patent and Trademark Office

Submission for OMB Review; Comment Request; “Pro Bono Survey”

The United States Patent and Trademark Office (USPTO) will submit to the Office of Management and Budget (OMB) for clearance the following proposal for a collection of information under the provisions of the Paperwork Reduction Act of 1995.

Agency: United States Patent and Trademark Office, Department of Commerce.

Title: Pro Bono Survey.

OMB Control Number: 0651-0082.

Form Number(s):

• Pro Bono Survey, PTO Form 450.

• Client Intake Form, PTO Form 451.

Type of Request: Revision of a currently approved information collection.

Number of Respondents: 1,048 respondents. The USPTO estimates that 22 regional hub administrators will report metrics once per quarter. The reminder of the 1,026 estimated respondents will be completed by applicants to the Pro Bono regional programs.

Average Hours per Response: The USPTO estimates that it takes the regional hub administrators approximately 120 minutes (2 hours) to complete the pro bono survey, including time needed to gather the necessary information, enter it into the information collection instrument, and submit it. The USPTO estimates that it will take approximately 1 minute for applicants to complete the Client Intake Form.

Burden Hours: 193 hours.

Hourly Cost Burden: $13,676.

Annual (non-hour) Cost: $0.

Needs and Uses: The Leahy-Smith America Invents Act (AIA), Public Law 112-29 § 32 (2011) directs the USPTO to work with and support intellectual property law associations across the country in the establishment of pro bono programs (also referred to as “hubs”) designed to assist financially under-resourced independent inventors and small businesses. To support this, the USPTO has worked with and supported various non-profit organizations to establish a series of autonomous regional hubs that endeavor to match low-income inventors with volunteer patent practitioners across the United States. The regional hubs comprise law school intellectual property clinics, bar associations, innovation/entrepreneurial organizations, and arts-focused lawyer referral services that are strategically located to provide access to patent pro bono services across all fifty states and the District of Columbia. Additionally, the Study of Underrepresented Classes Chasing Engineering and Science Success Act (SUCCESS Act), Public Law 115-273 (2018) directs the agency to provide recommendations on how to increase the number of women, minorities, and veterans who apply for and obtain patents.

To support the purposes described above, the Pro Bono Survey will continue to collect information regarding the activity of the regional hubs. The USPTO has worked with the Pro Bono Advisory Council (PBAC) to determine what information is necessary to determine the effectiveness of each regional pro bono hub's operations. The PBAC is a well-established group of patent practitioners and thought leaders in intellectual property who have committed to provide support and guidance to patent pro bono hubs across the country. The data previously gathered, and which continues to be gathered, provides the USPTO with valuable information, including the number of inventor inquiries, referral sources, number of pro bono applicants successfully matched with patent practitioners, and types of patent filings. The USPTO, PBAC, and the regional hubs, are responsible for the quarterly collection of this information. The information, at its highest level, will allow the PBAC and the USPTO to determine whether the regional hubs are matching qualified low-income inventors with volunteer patent practitioners and help estimate the total economic benefit derived by low-income inventors in the form of donated legal services. This information also helps the USPTO determine which regional hubs are effectively serving low-income inventors and which hubs need additional support.

The USPTO is proposing to revise the existing information collection to gather additional information regarding gender, ethnicity, race, and veteran status. Each regional hub will be voluntarily requesting demographic information from those seeking assistance that will be self-identified by the applicant. This requested standardized demographic information will be a voluntary part of the overall application materials that each independent inventor fills out when seeking pro bono assistance. This voluntary information will be kept confidential by the regional hubs and only aggregate information is shared with the USPTO. This aggregate information will also be used to help determine the extent to which women, minorities, and veterans engage the Patent Pro Bono Program.

Affected Public: Not-for-profit institutions; individuals and households.

Frequency: The Pro Bono Survey is completed quarterly; the Client Intake Form is completed on occasion.

Respondent's Obligation: Required to Obtain or Retain Benefits.

Once submitted, the request will be publically available in electronic format through reginfo.gov. Follow the instructions to view the Department of Commerce information collections currently under review by OMB.

Further information can be obtained by:

• Email: InformationCollection@uspto.gov. Include “0651-0082 information request” in the subject line of the message.

• Mail: Kimberly Hardy, Office of the Chief Administrative Officer, United States Patent and Trademark Office, P.O. Box 1450, Alexandria, VA 22313-1450.

Written comments and recommendations for the proposed information collection should be sent on or before May 27, 2020 to www.reginfo.gov/public/do/PRAMain. Find this particular information collection by selecting “Currently under 30-day Review—Open for Public Comments” or by using the search function to view Department of Commerce information collections currently under review by OMB.

Kimberly Hardy,
Information Collections Officer, Office of the Chief Administrative Officer, United States Patent and Trademark Office.

[FR Doc. 2020-08893 Filed 4-24-20; 8:45 am]

BILLING CODE 3510-16-P